ENVIRONMENTAL PROTECTION AGENCY

[EPA-HQ-OECA-2009-0274; FRL-9322-8]

[RIN 2020-AA47]

Proof of Concept Demonstration for Electronic Reporting of Clean Water Act Compliance Monitoring Data: Announcement of Meeting and Demonstration

AGENCY: Environmental Protection Agency (EPA).

ACTION: Notice.

SUMMARY: The U.S. Environmental Protection Agency (EPA) will conduct a public webinar in order to inform interested parties about an opportunity to participate in a technical proof of concept demonstration for electronic reporting of Clean Water Act (CWA) National Pollutant Discharge Elimination System (NPDES) Discharge Monitoring Report (DMR) compliance monitoring data. This webinar will be held on Wednesday, July 13, 2011, from 10:30 a.m.-12 p.m. EDT.

EPA announced on July 6, 2009, that it would develop a Clean Water Action Plan ¹ to enhance public transparency regarding clean water enforcement performance at Federal and state levels, to strengthen that performance, and to transform EPA's water quality and compliance information systems. A consensus suggestion across co-regulators and stakeholder groups was to implement electronic reporting from facilities that are required to submit reports to a regulatory agency. To fully realize the transformation of reporting and data management into the 21st century, OECA is developing a rule to require NPDES permittees to provide a variety of environmental information electronically. EPA is exploring different electronic reporting options to enable NPDES regulated facilities to electronically submit their compliance monitoring data. EPA will conduct a technical proof of concept to demonstrate the electronic reporting of NPDES compliance monitoring data from regulated facilities via an `open platform e-file' electronic reporting option. The `open platform e-file' proof of concept demonstration will focus the electronic transmission of NPDES DMRs from a third-party commercial software provider (“provider”) to EPA. If EPA were to fully implement this option, any provider that meets the Agency's data exchange standards, protocols, and specifications would be able to offer electronic reporting services to the regulated community for the NPDES program (e.g., NPDES permitted facilities). This open platform model would likely be similar to the Internal Revenue Service (IRS) model for electronic reporting, which uses third-party software providers for tax data collection and transmission (e.g., TurboTax, TaxACT, or others [no endorsement intended or implied]) from private citizens and businesses. The Agency does not intend to purchase services from any provider. All financial transactions would be between the providers and members of the regulated community. EPA will conduct a public webinar to provide an overview of the “open platform e-file option” and to identify person(s) interested in participating in a proof of concept demonstration of the technical feasibility of this “open platform e-file option” and to identify the specific system and process information necessary for this proof of concept demonstration.

¹ See: http://www.epa.gov/oecaerth/civil/cwa/cwaenfplan.html.

DATES: EPA will conduct the public webinar on Wednesday, July 13, 2011, from 10:30 a.m.-12 p.m. EDT.

ADDRESSES: Persons interested in attending this webinar should register at: https://www1.gotomeeting.com/register/887495337.

FOR FURTHER INFORMATION CONTACT: For additional information, please contact Ms. Lucy Reed, Deputy Director, Enforcement Targeting and Data Division, Office of Compliance (mail code 2222A), Environmental Protection Agency, 1200 Pennsylvania Avenue, NW., Washington, DC 20460; telephone number: (202) 564-5036; e-mail address: reed.lucy@epa.gov.

SUPPLEMENTARY INFORMATION: EPA's information about point source water pollution and their compliance with the CWA is largely built on paper-based reporting systems developed nearly forty years ago and initially focused on a subset of point source pollution. Since then, the universe of permitted facilities has grown exponentially and there is significant interest in the electronic reporting of information for this expanded universe of regulated facilities. Electronic data collection and transmission could potentially: (1) Aid regulated facilities in reporting their NPDES compliance monitoring data; (2) reduce burden on states as electronic data submissions eliminate the need for transferring data from paper-based forms to databases; (3) provide more timely and accurate data for enforcement targeting and reporting; (4) increase transparency on regulatory compliance; and (5) enhance EPA's oversight and states' management of the NPDES program. EPA and many states already have built electronic reporting tools for some of the CWA NPDES compliance monitoring information. For example, in June 2009, EPA built and made publicly available an electronic reporting tool, Network Discharge Monitoring Report (NetDMR), for the electronic reporting of Discharge Monitoring Report (DMR) data from the regulated facilities to EPA.²

² See: http://www.epa.gov/netdmr/.

In the future, EPA would like to supplement existing electronic reporting options with the `open platform e-file' option, to allow providers the opportunity of providing electronic reporting services to their clients (e.g., NPDES permitted facilities). Similar to the IRS system, the open platform e-file option would rely on third-party commercial software providers to gather monitoring data via an application user interface for the NPDES regulated community to report the data to EPA and state agencies electronically. Currently, this is only a technical proof of concept demonstration effort, but if and when EPA was to fully implement the open platform e-file option, EPA would need to review and determine if the third-party commercial software meets the standards, protocols and specifications for electronic reporting, and how these software providers would share this data with EPA through the Central Data Exchange (CDX) using the Environmental Information Exchange Network (“Exchange Network”) services. EPA would also need to coordinate with states to fully implement the open platform e-file option as EPA has authorized 46 states to manage the NPDES permit program.³ EPA conducted such coordination with the development and implementation of NetDMR. The Agency does not intend to purchase services from any provider as part of this technical proof of concept. If and when EPA was to fully implement the open platform e-file option all financial transactions would be between the providers and members of the regulated community. EPA will not be a party to these transactions.

³ See: http://cfpub.epa.gov/npdes/statestats.cfm.

EPA will use the webinar as means to provide an overview and the scope and schedule for the `technical proof of concept' for the open platform e-file option. The webinar is open to all interested persons but will be mainly focused on providing information to providers that might be interested in participating in a `technical proof of concept' for the open platform e-file option. The webinar will also answer questions for persons interested in participating in the technical proof of concept demonstration.

The webinar will provide an overview on the following topics:

• Agency's Clean Water Action Plan, the NPDES Electronic Reporting Rule, and the potential role for the open platform e-file option.

• EPA's CDX and Exchange Network Web services that could support the open platform e-file option.

• Scope of the technical proof of concept for the open platform e-file option (DMR data).

• Schedule and requirements for third-party providers interested in participating in the technical proof of concept.

• Solicit questions from the webinar participants on the technical proof of concept demonstration.

The technical proof of concept is open to all providers; however, providers must describe and provide examples of their work experience and technical experience in the data exchange and the NPDES permit program. In order to participate in the technical proof of concept interested third-party providers must submit a letter of interest, not to exceed 5 pages, to Ms. Reed, see FOR FURTHER INFORMATION CONTACT section, by Wednesday, July 27, 2011, indicating their interest in participating in the technical proof of concept demonstration along with a short description of their company, contact information, and work experience (including examples) in using the following standards, protocols, and specifications in order to use EPA Exchange Network services:

• The Node 2.0 Functional Specifications and Protocols (http://www.exchangenetwork.net/node/node2.0.htm).

• Integrated Compliance Information System-National Pollutant Discharge Elimination System (ICIS-NPDES) Flow Configuration Document, DMR Extensible Markup Language (XML) Schema, ICIS DMR Batch User Guide, ICIS DMR Data Exchange Template, and ICIS DMR Example XML Instance Document (http://www.exchangenetwork.net/exchanges/water/icisnpdes.htm).

• Exchange standards that include: Extensible Markup Language (XML); Simple Object (SOAP) v 1.2; Web Services Description Language (WSDL) v1.1; Secure Hypertext Transfer Protocol (https) (see NIST 800-52); WS-Security v 1.0; and Message Transmission Optimization mechanism (MTOM).

The description should include the following items to illustrate the experience the provider has in meeting the requirements identified above:

—Connect using https.

—Submit files to an EPA Node using the published WSDL.

—Support Trading Partners in Exchange Network data exchanges using Node 2.0 specifications.

—Generate data in XML format.

—Operate schema validation tools.

—Parse XML files.

—Gather and store Discharge Monitoring Report data from facilities.

—Provide monthly Discharge Monitoring Report data in an electronic format.

—Transfer files through the CDX node on the Exchange Network.

—Check the submission status with CDX, and download processing results from CDX.

—Generate monthly DMR data in XML format as required by ICIS.

Interested third-party providers must also include in their letter of interest a short written statement of their experience and understanding of the NPDES program and of their experience with assisting regulated entities or states with completion of DMR submissions and whether these submissions used the DMR XML schema, and the use of the technical specification, protocols, and standards in these data exchanges. Interested third-party providers must also include in their letter of interest a statement certifying that they are not on the General Services Administration's Excluded Parties List System.⁴

⁴ See: https://www.epls.gov/.

EPA will review these written submissions to identify the providers that meet EPA's eligibility requirements for participation in the technical proof of concept. EPA will determine eligibility based on the providers written submissions of their work experience (including examples) in using data exchange standards, protocols, and specifications (see previous three bullets) and the NPDES permit program (see previous paragraph). Based on these written submissions EPA will identify and notify all eligible providers that they have been accepted in the participation in the technical proof of concept. EPA will use the webinar to outline the process and factors that it will be used for determining eligibility for participation in the technical proof of concept.

EPA will work with these third-party providers to conduct an initial service test to connect, authenticate, submit and download a sample document to a service to be provided by EPA. This initial test will identify the third-party providers that can successfully connect to and use EPA's data exchange services, using the following standards and the Node 2.0 functional specification and protocols and the exchange standards identified above. EPA will assist these software providers in setting up and conducting this services test and in identifying the criteria for demonstrating a successful connection and use of EPA's data exchange services. See Appendix A, “Technical Proof of Concept Objective, Scope, Criteria for Success.” The initial services test will need to be completed by August 4, 2011. EPA may grant an extension to this date for good cause and will notify provider participants of any changes to this date. Those unable to demonstrate basic connectivity and use of services within this time frame will not be able to continue their participation in the technical proof of concept. EPA will send written notification to these providers identifying whether they demonstrated a successful connection to EPA's data exchange services. Providers that have not demonstrated a successful connection and use of EPA services may send an e-mail to Mr. Roy Chaudet, EPA's Office of Environmental Information, if they wish EPA to re-consider its decision (chaudet.roy@epa.gov). During the basic services test period, technical questions can be directed to Mr. Chaudet or Ms. Alison Kittle, EPA's Office of Enforcement and Compliance Assurance (kittle.alison@epa.gov).

Third-party providers that successfully pass the initial services test will then conduct another test demonstrating the ability for their application to perform automated electronic submissions of DMR data to EPA. EPA will not use actual DMR data for this test but will provide sample data (e.g., pollutant monitoring data, permit limits) to third-party software providers to use to create and test their DMR submissions in this technical proof of concept. EPA will also assist these providers in setting up and conducting this test and in identifying the criteria for demonstrating a successful transmission of DMR data to EPA. See Appendix A, “Technical Proof of Concept Objective, Scope, Criteria for Success.” This second test will need to be completed by September 30, 2011. EPA may grant an extension to this date for good cause and will notify provider participants of any changes to this date.

Given that this is only a technical proof of concept demonstration, the requirements of the Cross Media Electronic Reporting Rule (CROMERR), 40 CFR Part 3, will not be included in this proof of concept.⁵ EPA notes that full implementation of the open platform e-file option would require compliance with CROMERR and any future requirements of the NPDES Electronic Reporting Rule.

⁵ See: http://www.epa.gov/cromerr/about.html.

EPA will use the webinar to solicit names of persons interested in a technical proof of concept for the open platform e-file option for the electronic submission of DMRs. However, participation in the webinar is not a prerequisite for participation in the technical proof of concept. At the conclusion of the technical proof of concept demonstration, EPA will provide a summary of results of the proof of concept demonstration in the docket for the NPDES Electronic Reporting Rule (see EPA-HQ-OECA-2009-0274) and on the Web page supporting this demonstration. Participation in this technical proof of concept is voluntary and EPA will not be providing funds for participation. Additionally, EPA will not use this technical proof of concept demonstration or its results to endorse the commercial products or services of any third-party software providers.

Proof of Concept Demonstration for Electronic Reporting of Clean Water Act Compliance Monitoring Data: Announcement of Meeting and Demonstration

EPA and the Federal government are prohibited from endorsing any product, service or enterprise. EPA will also not use participation in the technical proof of concept as an eligibility factor for participation in potential future related data exchange projects or with any potential production deployment of third-party data exchange. Persons that are interested in participating in the technical proof of concept but cannot attend the webinar should contact Ms. Reed, see FOR FURTHER INFORMATION CONTACT section.

Dated: June 15, 2011.
Lisa C. Lund,
Director, Office of Compliance.
Dated: June 15, 2011.
Andrew Battin,
Director, Office of Information Collection.

Appendix A: Technical Proof of Concept Objective, Scope, and Criteria for Success

Objective: The objective of the technical proof of concept is to demonstrate that a third party software provider can offer an interface to the regulated community that can leverage EPA/Exchange Network services and meet the requirements for electronic reporting to EPA's Integrated Compliance Information System (ICIS)-NPDES system.

Scope: The technical proof of concept shall demonstrate basic functionality for electronically submitting DMRs using existing EPA standards, protocols, and specifications. For this technical proof of concept, the general scope is expected to include:

Initial Setup. Each software provider selected for participating in the technical proof of concept demonstration by EPA must apply for their own Network Authentication Authorization Services (NAAS) test account by contacting the Central Data Exchange (CDX) Node Help Desk at nodehelpdesk@epacdx.net. All software providers must request the ICIS test user account and data flow configuration information for transferring data to EPA's ICIS system by contacting Ms. Kittle (kittle.alison@epa.gov).

Basic Permit/DMR Information. EPA will provide permit limit data to the participating software provider for a sample permit in EPA's ICIS-NPDES system for the provider to be able to use in their submissions. EPA will provide the algorithms for anticipating DMRs from the limit data for the software provider to identify and extract monitoring data when it is due at EPA. This will be done using the vendor's software and not simply creating an XML file.

Preparing DMR for Submission. Using the ICIS limits data and algorithm provided by EPA, the software provider shall extract the expected DMR data and use it to prepare an XML file based upon the format as prescribed in EPA's ICIS DMR Batch User Guide, ICIS DMR Data Exchange Template, and ICIS DMR Example XML Instance Document. The software provider will be responsible for validating the resulting sample DMR XML against the DMR XML schema before compressing the file into a format compatible with WinZip.

Electronic Submission of Sample DMR. Using the established connectivity and the standards, protocols, and specifications for the Exchange Network's data exchange services, the software provider shall connect, authenticate and invoke services necessary to electronically submit their sample DMR XML to CDX.

Processing by CDX. Once the sample DMR XML zipped file is received by CDX, it must pass simple validation checks against EPA's DMR XML schema. The software provider will be responsible for tracking the status of the submission, obtaining the results of the submission, correcting any errors that will have occurred, and resubmitting the DMR XML to EPA until it has been properly processed.

Processing by ICIS. Once the sample submission has successfully passed schema validation, CDX will distribute the file to ICIS for processing. ICIS will return an XML file containing the list of key fields for parameters able to be processed (“accepted transactions”) along with an XML file of parameters unable to be processed with error messages (“rejected transactions”). The software provider will be responsible for downloading this report through the download service provided by CDX and providing a means for viewing these errors within their software package.

Criteria for Success: The general criteria for successful completion of the technical proof of concept by the software provider are:

• Ability of the software provider's electronic reporting software to use ICIS limit set information to determine when a scheduled parameter is due in ICIS.

• Successful generation of the following types of sample DMR XML files in the format expected by ICIS via the software provider's electronic reporting software:

○ DMRs with change, replace and mass delete transactions being submitted at the same time for one or more permitted facilities;

○ One permitted facility having over 25 unique outfalls with parameters being reported at the same time;

○ One permitted facility having over 25 unique parameters being reported at the same time;

○ Multi-seasonal parameters being reported with non-seasonal parameters at the same time for one or more permitted facilities;

○ Parameters monitored monthly, quarterly, annually and semi-annually being reported at the same time for one or more permitted facilities;

○ Scheduled parameters and unscheduled parameters being reported at the same time for one or more permitted facilities;

○ Monitored and optionally monitored parameters being reported at the same time for one or more permitted facilities;

○ Biosolids data being reported with parameter values at the same time for one or more permitted facilities;

○ Parameters for one or more sewage treatment plants being reported for one or more permitted facilities;

○ Parameters with reported values, parameters with No Discharge Indicators, and parameters with a combination of reported values and No Discharge Indicators being reported at the same time for one or more permitted facilities; and

○ DMRs that are able to pass all business rules specified in the ICIS Batch Technical Specification Document.

• Successful authentication and electronic submission of all types of sample DMR XML files listed above to CDX via the software provider's electronic reporting software.

• Ability to receive, track and interpret CDX notices on the status of each DMR XML file submission.

• Ability of all types of sample DMR XML files to pass initial schema validation by CDX.

• Successful retrieval of CDX schema validation result reports and ICIS error reports in XML format for each submission to CDX, and use the reports to perform defect correction and resubmission of corrected DMR XML files as necessary.

• 100% success in the ability of ICIS to process all of the sample DMR XML files listed above.

• Ability for the software provider's electronic reporting software to receive, parse and process accepted and rejected transaction reports returned by ICIS for each CDX submission with a status of “Completed” in XML format, and translate them into a human readable format for the submitter to review.

[FR Doc. 2011-15642 Filed 6-22-11; 8:45 am]

BILLING CODE 6560-50-P